CORPORATION FOR NATIONAL AND COMMUNITY SERVICE

Information Collection; Submission for OMB Review; Comment Request

AGENCY: Corporation for National and Community Service.

ACTION: Notice.

SUMMARY: The Corporation for National and Community Service (hereinafter the “Corporation”) has submitted a public information collection request (ICR) to the Office of Management and Budget (OMB) for review and approval in accordance with the Paperwork Reduction Act of 1995, Pub. L. 104-13, (44 U.S.C. Chapter 35). Copies of this ICR, with applicable supporting documentation, may be obtained by calling the Corporation for National and Community Service, Ms. Angela Roberts, at (202) 606-6822, (aroberts@cns.gov); (TTY/TDD) at (202) 606-5256 between the hours of 9 a.m. and 4 p.m. Eastern Time, Monday through Friday.

DATES: Comments may be submitted, identified by the title of the information collection activity, by any of the following two methods listed in the address section, within 30 days from the date of publication in this Federal Register.

ADDRESSES: Comments may be submitted, identified by the title of the information collection activity, by any of the following two methods:

(1) By fax to: (202) 395-6974, Attention: Ms. Katherine Astrich, OMB Desk Officer for the Corporation for National and Community Service; and

(2) Electronically by e-mail to: Katherine_T._Astrich@omb.eop.gov.

SUPPLEMENTARY INFORMATION: The OMB is particularly interested in comments which:

• Evaluate whether the proposed collection of information is necessary for the proper performance of the functions of the Corporation, including whether the information will have practical utility;

• Evaluate the accuracy of the agency's estimate of the burden of the proposed collection of information, including the validity of the methodology and assumptions used;

• Enhance the quality, utility and clarity of the information to be collected; and

• Minimize the burden of the collection of information on those who are to respond, including the use of appropriate automated, electronic, mechanical, or other technological collection techniques or other forms of information technology, e.g., permitting electronic submissions of responses.

Comments

A 60-day public comment Notice, regarding modification of the Project Progress Report was published in the Federal Register on January 17, 2007. This comment period ended on March 19, 2007. A total of 10 responses were received, some of which contained multiple comments, representing a total of 31 individuals. The summary of comments received is as follows:

In Summary:

(a) Six comments supported the suggested changes and noted that the proposed revisions will make reporting easier and more streamlined.

(b) One comment suggested that the semi-annual “Data Demographic” section be retained, and that the proposed annual Data Supplemental Sheet (known as the Project Profile and Volunteer Activity) be eliminated. The Corporation believes that its proposal will result in more streamlined reporting and greater data accuracy, since all projects would report activities and outputs within the same time period. This is currently not the case, due to the fact that grantees submit Project Progress Reports according to their own grant cycle.

(c) Four comments were beyond the scope of this information collection. They included one observation that overall burden has increased at the local level due to the greater emphasis on outcome-based programming. The emphasis on quantifiable outputs and outcomes transcends the Corporation and applies to all federal agencies under the Government Performance and Results Act (GPRA) and as such, the Corporation lacks discretion to implement changes resulting in lack of outcome performance. Another comment requested that deadline for report submission be increased from the current 30 days after the close of the 6-month period to 45 days after the close of the 6-month period. The due dates of reports after the close of the reporting period is determined by Corporation policy that applies to all of the agency's programs. The standard is currently 30 days. The Senior Corps will share this request for a 45-day due date with the agency-wide Compliance Working Group for consideration.

Type of Review: Revision of a currently approved collection.

Agency: Corporation for National and Community Service.

Title: National Senior Service Corps (Senior Corps) Project Progress Report.

OMB Number: 3045-0033.

Agency Number: CNCS Form 1020.

Affected Public: Sponsors of Senior Corps grants.

Total Respondents: 1,350.

Frequency: Semi-annual.

Average Time Per Respondent: 8 hours annually based on reporting semi-annually without Data Demographics and reporting Data Supplement annually.

Estimated Total Burden Hours: 10,800.

Total Burden Cost (capital/startup): None.

Total Burden Cost (operating/maintenance): $2,000.

Description: The Corporation seeks to renew and revise the current OMB approved Progress Report. When revised, the Progress Report will: (a) Eliminate all quarterly submissions of the PPR; (b) change the submission frequency of narrative and work plan sections to 100 percent semi-annual and; (c) eliminate the “Data Demographic” section of the PPR; and (d) change the submission frequency of the “Data Supplemental” section from biennial to annual. The revised PPR will be used in the same manner as the existing PPR to report progress toward accomplishing work plan goals and objectives, reporting volunteer and service outputs; reporting actual outcomes related to self-nominated performance measures meeting challenges encountered, describing significant activities, and requesting technical assistance. These proposed modifications will continue to ensure that the information collection captures appropriate data for the Corporation's required performance measurement and other reporting.

The Project Progress Report (PPR) was designed to assure that Senior Corps grantees address and fulfill legislated program purposes, meet agency program management and grant requirements, and assess progress toward work plan objectives agreed upon in the granting of the award.

Dated: March 21, 2007.
Tess Scannell,
Director, Senior Corps.

[FR Doc. E7-5585 Filed 3-26-07; 8:45 am]

BILLING CODE 6050-$$-P